DEPARTMENT OF TRANSPORTATION

Pipeline and Hazardous Materials Safety Administration

Hazardous Materials: Notice of Applications for Modification to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before June 23, 2022.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC or at http://regulations.gov.

This notice of receipt of applications for special permit is published in accordance with part 107 of the Federal hazardous materials transportation law (49 U.S.C. 5117(b); 49 CFR 1.53(b)).

Issued in Washington, DC, on June 2, 2022.
Donald P. Burger,
Chief, General Approvals and Permits Branch.

Special Permits Data
Application No. | Applicant | Regulation(s) affected | Nature of the Special Permits thereof
11194-M | Mission Systems Orchard Park Inc | 172.203(a), 172.301(c), 173.302a(a)(1), 173.304a(a)(1), 180.205 | To modify the special permit to authorize the cylinders to be used for underwater breathing purposes. (modes 1, 2, 3, 4, 5)
13027-M | Hernco Fabrication & Services, Inc | 173.241, 173.242, 173.243, 173.202, 173.203 | To modify the special permit to authorize additional hazardous materials. (mode 1)
14546-M | Linde Gas & Equipment Inc | 172.203(a), 180.209(a), 180.209(b), 180.209(b)(1)(iv) | To modify the special permit to extend the initial periodic requalification period of DOT 3AL and DOT-SP 12440 cylinders from 5 years to 10 years. (modes 1, 2, 3, 4, 5)
15097-M | Consumer Product Safety Commission, United States | 172.320, 173.56 | To modify the special permit to authorize an additional destination. (mode 1)
15146-M | Tech Spray L P | 172.200, 172.400, 172.500, 173.304(a) | To modify the permit to include additional hazardous materials. (modes 1, 2, 3, 4)
20599-M | County of Orange | 172.320, 173.56(b) | To modify the special permit to authorize contractors under the direct control of the county to package and prepare shipments under the special permit. (mode 1)
21015-M | Amazon.com, Inc | 172.203(a), 172.315(a)(2), 172.200(b)(3), 176.11(e) | To modify the special permit to waive shipping papers aboard vessel, to authorize international ground shipments, to remove the requirement that the special permit accompany vessel shipments, and to authorize alternative limited quantity mark placement. (modes 1, 2, 3)
21240-M | Volkswagen Group of America Chattanooga Operations, LLC | 172.101(j) | To modify the special permit to authorize additional lithium ion batteries. (mode 4)

[FR Doc. 2022-12306 Filed 6-7-22; 8:45 am]

BILLING CODE 4909-60-P